DEPARTMENT OF THE TREASURY

Internal Revenue Service

26 CFR Part 1

[REG-121694-16]

RIN 1545-BN80

Updating Section 301 Regulations To Reflect Statutory Changes; Correction

AGENCY: Internal Revenue Service (IRS), Treasury.

ACTION: Correction to a notice of proposed rulemaking.

SUMMARY: This document contains a correction to a notice of proposed rulemaking (REG-121694-16) that was published in the Federal Register on March 26, 2019. The proposed regulations updated existing regulations under section 301 to reflect statutory changes made by the Technical and Miscellaneous Revenue Act of 1988.

DATES: Written or electronic comments and requests for a public hearing are still being accepted and must be received by June 24, 2019.

FOR FURTHER INFORMATION CONTACT: Concerning the proposed regulations, Grid R. Glyer, (202) 317-6847; concerning submission of comments, Regina Johnson, (202) 317-6901 (not toll-free numbers).

SUPPLEMENTARY INFORMATION:

Background

The proposed regulations that are the subject of this correction are under sections 301, 356, 368, and 902 of the Internal Revenue Code.

Need for Correction

As published, the notice of proposed regulations (REG-121694-16) contains errors which may prove to be misleading and need to be clarified.

Correction of Publication

Accordingly, the notice of proposed rulemaking (REG-121694-16) that was the subject of FR Doc. 2019-05649, published at 84 FR 11263 (March 26, 2019), is corrected to read as follows:

§ 1.301-1 [Corrected]

On page 11266, first column, the sixth and seventh lines of paragraph (f)(3)(ii), the language “similar to, the transaction in Notice 99-59” is corrected to read “similar to the transaction in, Notice 99-59”.

Martin V. Franks,
Chief, Publications and Regulations Branch, Legal Processing Division, Associate Chief Counsel (Procedure and Administration).

[FR Doc. 2019-08113 Filed 4-22-19; 8:45 am]

BILLING CODE 4830-01-P